DEPARTMENT OF AGRICULTURE

Forest Service

Umatilla National Forest, Southeast Washington Resource Advisory Committee

AGENCY: Forest Service, USDA.

ACTION: Notice of meeting.

SUMMARY: The Umatilla National Forest, Southeast Washington Resource Advisory Committee will meet in Pomeroy, Washington. The committee is meeting as authorized under the Secure Rural Schools and Community Self-Determination Act, as amended, (Pub. L. 110-343) and in compliance with the Federal Advisory Committee Act. Purpose of the meeting is to conduct general business review proposed projects. This meeting is open to the public.

DATES: The meeting will be held on April 28, 2011, and will begin at 7 p.m.

ADDRESSES: The meeting will be held at the Pomeroy Ranger District Office, 71 West Main Street, Pomeroy, WA. Written comments should be sent to Monte Fujishin, Pomeroy Ranger District, 71 West Main Street, Pomeroy, WA 99347. Comments may also be sent via email to mfujishin@fs.fed.us, or via facsimile to 509-843-4621.

All comments, including names and addresses when provided, are placed in the record and are available for public inspection and copying. The public may inspect comments received at Pomeroy Ranger District, 71 West Main Street, Pomeroy, WA 99347. Visitors are encouraged to call ahead to 509-843-1891 to facilitate entry into the building.

FOR FURTHER INFORMATION CONTACT: Monte Fujishin, RAC Designated Federal Official, USDA, Umatilla National Forest, Pomeroy Ranger District, 71 West Main Street, Pomeroy, WA 99347; (509) 843-1891; E-mail mfujishin@fs.fed.us.

Individuals who use telecommunication devices for the deaf (TDD) may call the Idaho, Washington Relay Service at 1-800-377-3529, 24 hours a day, 365 days a year.

SUPPLEMENTARY INFORMATION: The meeting is open to the public. The following business will be conducted: (1) Review of past projects and progress of continuing projects. (2) Discussion and selection proposed projects for 2012 and if there are participants. (3) Public Comment. Persons who wish to bring related matters to the attention of the Committee may file written statements with the Committee staff before or after the meeting.

Dated: March 25, 2011.
Monte Fujishin,
Designated Federal Officer.

[FR Doc. 2011-7570 Filed 3-30-11; 8:45 am]

BILLING CODE 3410-11-P